DEPARTMENT OF LABOR

Office of the Secretary

Agency Information Collection Activities; Submission for OMB Review; Comment Request; DOL-Only Performance Accountability, Information, and Reporting System

ACTION: Notice of availability; request for comments.

SUMMARY: The Department of Labor (DOL) is submitting the Employment and Training Administration (ETA) sponsored information collection request (ICR) revision titled, “DOL-Only Performance Accountability, Information, and Reporting System,” to the Office of Management and Budget (OMB) for review and approval for use in accordance with the Paperwork Reduction Act (PRA) of 1995. Public comments on the ICR are invited.

DATES: The OMB will consider all written comments that agency receives on or before May 4, 2018.

ADDRESSES: A copy of this ICR with applicable supporting documentation; including a description of the likely respondents, proposed frequency of response, and estimated total burden may be obtained free of charge from the RegInfo.gov website at http://www.reginfo.gov/public/do/PRAViewICR?ref_nbr=201802-1205-003 (this link will only become active on the day following publication of this notice) or by contacting Michel Smyth by telephone at 202-693-4129, TTY 202-693-8064, (these are not toll-free numbers) or sending an email to DOL_PRA_PUBLIC@dol.gov.

Submit comments about this request by mail to the Office of Information and Regulatory Affairs, Attn: OMB Desk Officer for DOL-ETA, Office of Management and Budget, Room 10235, 725 17th Street NW, Washington, DC 20503; by Fax: 202-395-5806 (this is not a toll-free number); or by email: OIRA_submission@omb.eop.gov. Commenters are encouraged, but not required, to send a courtesy copy of any comments by mail or courier to the U.S. Department of Labor—OASAM, Office of the Chief Information Officer, Attn: Departmental Information Compliance Management Program, Room N1301, 200 Constitution Avenue NW, Washington, DC 20210; or by email: DOL_PRA_PUBLIC@dol.gov.

FOR FURTHER INFORMATION CONTACT: Michel Smyth by telephone at 202-693-4129, TTY 202-693-8064, (these are not toll-free numbers) or sending an email to DOL_PRA_PUBLIC@dol.gov.

SUPPLEMENTARY INFORMATION: This ICR seeks approval under the PRA for revisions to the DOL-Only Performance Accountability, Information, and Reporting System. The following programs are required to report through this system: Workforce Innovation and Opportunity Act (WIOA) Adult; National Dislocated Worker and Youth; Wagner Peyser Employment Service; National Farmworker Jobs Program; YouthBuild; Job Corps; and Indian and Native American. Requiring these programs to use a standard set of data elements, definitions, and specifications at all levels of the workforce system helps improve the quality of the performance information that is received by the DOL. While the H1-B discretionary grant, Senior Community Service Employment, Jobs for Veterans State Grants, the Reintegration of Ex-Offenders program (Adult and Youth), and the Trade Adjustment Assistance programs are not authorized under the WIOA, they will be utilizing the data element definitions and reporting templates proposed in this ICR. The accuracy, reliability, and comparability of program reports submitted by states and grantees using Federal funds are fundamental elements of good public administration. The subject information collection requirements are necessary tools for maintaining and demonstrating system integrity. More specifically, this ICR covers several information collection instruments including—the Quarterly Program Performance Report (Form ETA-9173), WIOA Pay-for-Performance Report (Form ETA-9174), and Participant Individual Record Layout (PIRL) (Form ETA-9172). It should also be noted that the required data elements are noted within the PIRL with respect to the Job Corps; however, the burden associated with that data collection currently is counted under the ICR entitled, “Placement Verification and Follow-up of Job Corps Participants,” (OMB Control Number 1205-0426) as part of the follow-up survey process. The information collection subject to this Notice has been classified as a revision, because of the agency is adding citations for recently promulgated regulations that contain information collections as part of the authority for the collection. See 20 CFR 641.700, 641.710, 641.720, 641.730, 641.740, and 641.750. These regulations pertain to the Senior Community Service Employment Program. WIOA section 416(d) authorizes this information collection. See 29 U.S.C. 3141(d).

This information collection is subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information that does not display a valid Control Number. See 5 CFR 1320.5(a) and 1320.6. The DOL obtains OMB approval for this information collection under Control Number 1205-0521. The current approval is scheduled to expire on September 30, 2018; however, the DOL notes that existing information collection requirements submitted to the OMB receive a month-to-month extension while they undergo review. New requirements would only take effect upon OMB approval. For additional substantive information about this ICR, see the related notice published in the Federal Register on December 12, 2017 (82 FR 58446).

Interested parties are encouraged to send comments to the OMB, Office of Information and Regulatory Affairs at the address shown in the ADDRESSES section within thirty (30) days of publication of this notice in the Federal Register. In order to help ensure appropriate consideration, comments should mention OMB Control Number 1205-0521. The OMB is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-ETA.

Title of Collection: DOL-Only Performance Accountability, Information, and Reporting System.

OMB Control Number: 1205-0521.

Affected Public: State, Local, and Tribal Governments; Individuals and Households; Private Sector—businesses or other for-profits and not-for-profit institutions.

Total Estimated Number of Respondents: 17,531,424.

Total Estimated Number of Responses: 35,064,970.

Total Estimated Annual Time Burden: 8,938,029 hours.

Total Estimated Annual Other Costs Burden: $6,791,395.

Authority: 44 U.S.C. 3507(a)(1)(D).

Dated: March 30, 2018.
Michel Smyth,
Departmental Clearance Officer.

[FR Doc. 2018-06887 Filed 4-3-18; 8:45 am]

BILLING CODE 4510-FN-P